DEPARTMENT OF DEFENSE

Department of the Army

Expeditionary Technology Search (xTechSearch) II Prize Competition Announcement

AGENCY: Department of the Army, DoD.

ACTION: Announcement of competition.

SUMMARY: Under the provisions of applicable laws and regulations, the Assistant Secretary of the Army for Acquisition, Logistics and Technology (ASA(ALT)) is announcing the second cohort of the Army Expeditionary Technology Search—xTechSearch II Prize Competition—for the Army to enhance engagements with the entrepreneurial funded community, small businesses, and other non-traditional defense partners. The xTechSearch program will provide an opportunity for businesses to pitch novel technology solutions, either a new application for an existing technology or an entirely new technology concept, to the Army.

DATES:

1. December 31, 2018 at 12:59PM PST. Deadline for submission of White Papers to the xTechSearch competition. Submissions received after the deadline will not be considered.

2. February 25-March 8, 2019. Semifinalists—Up to 60 participants conduct technology pitches to xTechSearch panels.

3. March 26-28, 2019. Up to 25 finalists featured at the Association of the United States Army Global Force Symposium and Exposition in Huntsville, AL.

4. October 2019. Capstone Demonstration with Army subject matter experts and Leadership.

ADDRESSES: Proposals must be submitted at Challenge.gov: https://challenge.gov/a/buzz/challenge/88/ideas/top.

FOR FURTHER INFORMATION CONTACT: Ms. Jennifer Smith, Deputy Director for Laboratory Management (ASA(ALT)) Office of the Deputy Assistant Secretary of the Army, Research and Technology, (703) 697-0685 or via Email at: usarmy.pentagon.hqda-asa-alt.mbx.xtechsearch@mail.mil.

SUPPLEMENTARY INFORMATION:

Eligibility: The entities allowed to participate in this competition are small businesses as defined in 13 CFR part 121. To qualify, the participating entity must fall within the size standard by North American Industry Classification System code 541713, 541714, and 541715.

There may be only one submission per business. In addition, each entity:

• Shall be incorporated in and maintain a primary place of business in the United States;

• May not be a Federal entity or Federal employee acting within the scope of their employment.

• Sole proprietors may participate in xTechSearch if the individual is a citizen or permanent resident of the United States and the business is registered in the United States.

• Foreign companies may participate in xTechSearch by establishing a US domestic business relationship (e.g., wholly owned US subsidiary) or partner with a US based company.

• Companies that have previously participated in the xTechSearch competition are eligible to participate for new technology concepts or improvements to prior submitted proposals.

Registered participants shall be required to agree to assume any and all risks and waive claims against the Federal Government and its related entities, except in the case of willful misconduct, for any injury, death, damage, or loss of property, revenue, or profits, whether direct, indirect, or consequential, arising from their participation in a prize competition, whether the injury, death, damage, or loss arises through negligence or otherwise.

Participants shall be required to obtain liability insurance or demonstrate financial responsibility, in amounts determined by the Army, for claims by—

• Third parties for death, bodily injury, or property damage, or loss resulting from an activity carried out in connection with participation in a prize competition, with the Federal Government named as an additional insured under the registered participant's insurance policy and registered participants agreeing to indemnify the Federal Government against third party claims for damages arising from or related to prize competition activities; and

The Federal Government for damage or loss to Government property resulting from such an activity.

Prizes will be offered under 15 U.S.C. Section 3719 (Prize competitions).

• The total prize pool is $2.18M.

Evaluation Criteria and Process

Phase I: Concept White Paper Contest

The Phase I proposal must be a white paper describing the novel technology concept, innovative application concept and integration with one or more of the Army's technology focus areas. The proposal must be submitted via the Challenge.gov portal as a single searchable PDF file containing:

• Title.

• Author(s).

• Army Technology Focus Area: Choose from the eight (8) Technology Focus Area(s):

○ Long Range Precision Fires.

○ Next Generation Combat Vehicle.

○ Future Vertical Lift.

○ Network with hardware, software, and infrastructure.

○ Air and Missile Defense.

○ Soldier Lethality.

○ Medical Technologies.

○ Military Engineering Technologies.

• Keyword(s): Provide up to ten (10) keywords that describe the technology.

• Abstract: Provide an abstract (up to 250 words).

• White Paper: Technology proposal concept, no greater than 1000 words (not including title, author(s), keywords, abstract, company bio, graphs, figures or images). The word limit on the White Paper submission will be strictly enforced.

• List of prior SBIR awards in the past 5 years: Include Date award received, Funding organization, Phase of awards, and Topic Title awarded.

• Company Biography (Optional): Company background information, up to 1 page.

Contestants' concept papers will be reviewed by a panel of subject matter experts who will select the contestants to be invited to the xTechSearch Technology Pitch Forums. Companies selected by the panel will receive a prize of $4,000 and an invitation to Phase II: xTechSearch Technology Pitches.

Concept White Papers will be ranked using the following Scoring Criteria:

• Potential for Impact/Revolutionizing the Army—50%.

• Scientific and Engineering Viability—50%.

Phase II: xTechSearch Technology Pitches

• Up to sixty (60) selected contestant semi-finalists will be invited to complete an in-person venture style pitch to a panel of Army subject matter experts and judges at locations across the United States.

• Companies will pitch their technology and a proposed live proof-of-concept demonstration for Phase III (15 minute pitch followed by 10 minutes for questions and answers).

• Up to twenty five (25) semifinalists selected by the judge panel will receive a prize of $10,000 and be invited to display an exhibit and make a formal public oral presentation of their proposal at the 2019 AUSA Global Force Symposium and Exposition Innovators' Corner in Huntsville, AL.

• Scoring Criteria:

○ Potential for Impact/Revolutionizing the Army—40%.

○ Scientific and Engineering Viability—40%.

○ Proof-of-Concept Demonstration Plan—10%.

○ Team Ability—10%.

Phase III: AUSA Innovators' Corner

• The AUSA Innovators' Corner phase provides up to twenty five (25) xTechSearch semifinalists to be featured at the AUSA Innovators' Corner at the AUSA Global Force meeting, 26-28 March 2019 in Huntsville, AL. The finalists will leverage Army-sponsored exhibit space to engage with Department of Defense (DoD) customers, Army leadership, industry partners, and academia.

• Up to twelve (12) Phase III prize winner finalists will be announced at AUSA and provided a prize of $120,000 and 6 months to demonstrate proof-of-concept for their xTechSearch technology at the Phase IV: xTechSearch Capstone Demonstration.

Phase IV: xTechSearch Finale Demonstration—October 2019

• Each Phase III finalist will demonstrate proof-of-concept for their technology solution to Army subject matter experts and DoD leadership at the AUSA Annual Meeting and Exposition, October 2019, Washington DC. A single grand-prize winner will be selected for the technology concept with the greatest potential for impact and to revolutionize the Army.

• The winner of the Finale Demonstration will be awarded a prize of $250,000.

Authority: 15 U.S.C. Section 3719; Pub. L. 96-480, Section 24, as added Pub. L. 111-358, title I, Section 105a, Jan. 4, 2011 Stat. 3989.

Brenda S. Bowen,
Army Federal Register Liaison Officer.

[FR Doc. 2018-25502 Filed 11-21-18; 8:45 am]

BILLING CODE 5001-03-P